DEPARTMENT OF COMMERCE

International Trade Administration

A-570-893

Certain Frozen Warmwater Shrimp from the People's Republic of China: Notice of Second Amended Final Determination of Sales at Less Than Fair Value

AGENCY: Import Administration, International Trade Administration, Department of Commerce.

SUMMARY: On July 28, 2006, the United States Court of International Trade (“Court”) granted the joint motion for entry of stipulated judgment filed in Beihai Zhengwu Industry Co. Ltd., et al. v. United States, Court No. 05-00182, by the plaintiffs Shantou SEZ Xu Hao Fastness Freeze Aquatic Factory Co., Ltd.; Zhejiang Taizhou Lingyang Aquatic Products Co.; Taizhou Zhonghuan Industrial Co., Ltd.; Zhejiang Daishan Boafa Aquatic Product Co., Ltd.; Zhejiang Evenew Seafood Co., Ltd.; Zhoushan Juntai Foods Co., Ltd; Zhejiang Zhenglong Foodstuffs Co., Ltd.; Zhoushan Haichang Food Co.; Zhoushan Industrial Co., Ltd.; Zhoushan Putuo Huafa Sea Products Co., Ltd.; and Zhoushan Zhenyang Developing Co., Ltd. (collectively, the eleven respondents) and the defendant, the United States, and dismissed Count 1 of the eleven respondents' complaint. This case arises out of the Departments's Notice of Amended Final Determination of Sales at Less Than Fair Value and Antidumping Duty Order: Certain Frozen Warmwater Shrimp From the People's Republic of China, 70 FR 5149 (February 1, 2005) (“Amended Final Determination”).

EFFECTIVE DATE: August 17, 2006

FOR FURTHER INFORMATION CONTACT: Scot Fullerton or Christopher D. Riker, AD/CVD Operations, Office 9, Import Administration, International Trade Administration, U.S. Department of Commerce, 14th Street and Constitution Avenue, NW., Washington DC 20230; telephone: (202) 482-1386 or (202) 482-3441, respectively.

SUPPLEMENTARY INFORMATION: On March 29, 2005, the eleven respondents filed a complaint with the Court challenging various aspects of the U.S. Department of Commerce's (“the Department”) Amended Final Determination. Count 1 of the complaint challenged the Department's determination that the eleven respondents were part of the China-wide entity. On June 20, 2006, the eleven respondents and the United States filed a joint motion for entry of stipulated judgment with the Court. In the motion, the parties informed the Court that they had reached a settlement as to Count 1 of the eleven respondents' complaint. Pursuant to that agreement and in accordance with the Court's order of July 28, 2006 dismissing Count 1 of the eleven respondents' complaint, the Department hereby publishes in the Federal Register a second amended final determination in which the Department is assigning each of the eleven respondents a separate rate of 53.68 percent.

Within five days of publication of this notice, the Department will issue revised cash deposit instructions for the eleven respondents. The Department will instruct U.S. Customs and Border Protection to collect cash deposits on all shipments of the subject merchandise exported by the eleven respondents entered, or withdrawn from warehouse, for consumption on or after the date of publication of this notice at the rates detailed below. This deposit rate shall remain in effect until the completion of the next administrative review in which the eleven respondents participate.

Certain Frozen and Canned Warmwater Shrimp from China
Manufacturer/Exporter | Weighted-Average Margin (Percent)
Shantou SEZ Xu Hao Fastness Freeze Aquatic Factory Co., Ltd. | 53.68
Zhejiang Taizhou Lingyang Aquatic Products Co. | 53.68
Taizhou Zhonghuan Industrial Co., Ltd. | 53.68
Zhejiang Daishan Boafa Aquatic Product Co., Ltd. | 53.68
Zhejiang Evenew Seafood Co., Ltd. | 53.68
Zhoushan Juntai Foods Co., Ltd | 53.68
Zhejiang Zhenglong Foodstuffs Co., Ltd. | 53.68
Zhoushan Haichang Food Co. Ltd. | 53.68
Zhoushan Industrial Co., Ltd. | 53.68
Zhoushan Putuo Huafa Sea Products Co., Ltd. | 53.68
Zhoushan Zhenyang Developing Co., Ltd. | 53.68

This notice is issued and published in accordance with section 777(i) of the Tariff Act of 1930, as amended.

Dated: August 10, 2006.
Joseph A. Spetrini,
Acting Assistant Secretary for Import Administration.

[FR Doc. E6-13595 Filed 8-16-06; 8:45 am]

BILLING CODE 3510-DS-S